DEPARTMENT OF TRANSPORTATION

Federal Aviation Administration

14 CFR Part 39

[Docket No. 2001-NM-182-AD; Amendment 39-13867; AD 2004-23-12]

RIN 2120-AA64

Airworthiness Directives; Boeing Model 757-200 and -300 Series Airplanes

AGENCY: Federal Aviation Administration, DOT.

ACTION: Final rule.

SUMMARY: This amendment adopts a new airworthiness directive (AD), applicable to certain Boeing Model 757-200 and -300 series airplanes. This AD requires inspection of the guide arm assembly on passenger door number 1 left for a part mark to determine whether the guide arm assembly contains an adjuster rod, which was incorrectly manufactured, and replacement of any such adjuster rod. This action is necessary to prevent failure of the adjuster rod in the passenger door guide arm assembly, which could prevent the door from opening or closing during normal or emergency operations, resulting in the inability to evacuate the crew and passengers in an emergency. This action is intended to address the identified unsafe condition.

DATES: Effective December 21, 2004.

The incorporation by reference of certain publications listed in the regulations is approved by the Director of the Federal Register as of December 21, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: David Crotty, Aerospace Engineer, Cabin Safety and Environmental Systems Branch, ANM-150S, FAA, Seattle Aircraft Certification Office, 1601 Lind Avenue, SW., Renton, Washington 98055-4056; telephone (425) 917-6422; fax (425) 917-6590.

SUPPLEMENTARY INFORMATION: A proposal to amend part 39 of the Federal Aviation Regulations (14 CFR part 39) to include an airworthiness directive (AD) that is applicable to certain Boeing Model 757-200 and -300 series airplanes was published in the Federal Register on February 9, 2004 (69 FR 5939). That action proposed to require inspection of the guide arm assembly on passenger door number 1 left for a part mark to determine whether the guide arm assembly contains an adjuster rod, which was incorrectly manufactured, and replacement of any such adjuster rod.

Comments

Interested persons have been afforded an opportunity to participate in the making of this amendment. Due consideration has been given to the comments received.

Request To Revise Compliance Time

One commenter requests that the compliance time specified in paragraph (b) of the proposed AD be changed from “Within 18 months of the effective date of this AD” to “Within 18 months of the effective date of this AD or prior to 6,666 total aircraft cycles, whichever occurs later.” The commenter notes that Boeing Special Attention Service Bulletin 757-52-0077, dated February 15, 2001; and Boeing Special Attention Service Bulletin 757-52-0078, dated February 15, 2001 (both service bulletins were referenced as the appropriate sources of service information for accomplishing the proposed AD); suggest replacing any applicable adjuster rod before the aircraft reaches 6,666 flight cycles. The commenter states that Boeing and the hardware manufacturer base the cycle limits on fatigue analysis.

We partially agree. We do not agree that the compliance time specified in paragraph (b) of the final rule should be revised. The referenced service bulletins specify that the initial inspection should be done at the next maintenance time. The compliance time of “within 18 months of the effective date of this AD” allows most operators to inspect during scheduled maintenance and is an appropriate interval for affected airplanes to continue to operate without compromising safety.

However, we have revised the compliance times specified in paragraphs (c) and (d) of the final rule from “before further flight” to “prior to the accumulation of 6,666 total flight cycles” for the replacement and test of the adjuster rod of the guide arm assembly in order to align with the flight cycle compliance time recommended in the referenced service bulletins.

Request To Remove “Parts Installation” Paragraph

Two commenters request that “Parts Installation” paragraph (e) of the proposed AD be removed. One commenter states that only the adjuster rods of the guide arm assemblies on passenger door number 1 left are defective for airplanes specified in the referenced service bulletins. The commenter notes that all other adjuster rods are not affected. The other commenter points out that the referenced service bulletins do not indicate any spares or existing parts accountability concerns.

We agree with the commenters' request. Boeing and the part manufacturer have accounted for all affected parts and, therefore, replacement adjuster rods are not affected. We have removed paragraph (e) from the final rule and reidentified the paragraphs that follow.

Request To Revise Wording

One commenter requests that the wording in the “Summary” paragraph of the proposed AD be changed from “* * * door number 1 * * *” to “* * * door number 1 left * * *”

We agree to revise the “Summary” paragraph of the final rule in accordance with the commenter's request. The word “left” was inadvertently omitted from the “Summary” paragraph. The adjuster rods affected by the final rule are installed only on door number 1 left.

Request To Revise “Cost Impact” Paragraph

One commenter requests that the “Cost Impact” paragraph be revised. The commenter states that the affected number of airplanes should be revised from 9 to 35. The commenter notes that the cost impact amount would also need to be changed.

We agree to revise the “Cost Impact” paragraph. The number of affected airplanes of U.S. registry is 35, and the number of affected worldwide airplanes is 63. We have revised the “Cost Impact” paragraph of the final rule accordingly.

Conclusion

After careful review of the available data, including the comments noted above, we have determined that air safety and the public interest require the adoption of the rule with the changes previously described. We have determined that these changes will neither increase the economic burden on any operator nor increase the scope of the AD.

Cost Impact

There are approximately 63 airplanes of the affected design in the worldwide fleet. We estimate that 35 airplanes of U.S. registry will be affected by this AD, that it will take approximately 1 work hour per airplane to accomplish the required inspection, and that the average labor rate is $65 per work hour. Based on these figures, the cost impact of the AD on U.S. operators is estimated to be $2,275, or $65 per airplane.

We estimate that it will take approximately 2 work hours per airplane to accomplish the required replacement. Required parts would cost approximately $478 per airplane. Based on that figure, the cost impact of the required replacement on U.S. operators is estimated to be a maximum of $21,280, or $608 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts and of labor associated with this AD, subject to warranty conditions. As a result, the costs attributable to the AD may be less than stated above.

Regulatory Impact

The regulations adopted herein will not have a substantial direct effect on the States, on the relationship between the National Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-23-12 Boeing: Amendment 39-13867. Docket 2001-NM-182-AD.

Applicability: Model 757-200 series airplanes, as listed in Boeing Special Attention Service Bulletin 757-52-0077, dated February 15, 2001; and Model 757-300 series airplanes, as listed in Boeing Special Attention Service Bulletin 757-52-0078, dated February 15, 2001; certificated in any category.

Compliance: Required as indicated, unless accomplished previously.

To prevent failure of the adjuster rod in the passenger door guide arm assembly, which could prevent the door from opening or closing during normal or emergency operations, resulting in the inability to evacuate the crew and passengers in an emergency, accomplish the following:

Service Bulletin References

(a) The term “service bulletin,” as used in this AD, means the Accomplishment Instructions of the following service bulletins, as applicable:

(1) For Model 757-200 series airplanes: Boeing Special Attention Service Bulletin 757-52-0077, dated February 15, 2001; and

(2) For Model 757-300 series airplanes: Boeing Special Attention Service Bulletin 757-52-0078, dated February 15, 2001.

Inspection of Part Mark

(b) Within 18 months of the effective date of this AD: Inspect the part mark on the guide arm assembly of the number 1 left passenger door, in accordance with the applicable service bulletin.

Follow-on Actions

(c) If the inspection of the part mark required by paragraph (b) of this AD reveals the name of a supplier, accomplish the action specified in paragraph (c)(1) or (c)(2) of this AD, as applicable.

(1) If the part mark of supplier CDSL is found on the guide arm assembly, prior to the accumulation of 6,666 total flight cycles, replace the adjuster rod of the guide arm assembly per Figure 2 of the applicable service bulletin.

(2) If the part mark of a supplier other than CDSL is found on the guide arm assembly, then the adjuster rod is satisfactory, and no further action is required by this paragraph.

(d) If no part mark is found during the inspection required by paragraph (b) of this AD, prior to the accumulation of 6,666 total flight cycles, accomplish the action specified in either paragraph (d)(1) or (d)(2) of this AD.

(1) Replace the adjuster rod of the guide arm assembly per Figure 2 of the applicable service bulletin.

(2) Test the hardness of the adjuster rod of the guide arm assembly per Figure 3 of the applicable service bulletin; and do the action specified in paragraph (d)(2)(i) or (d)(2)(ii) of this AD, as applicable.

(i) If the hardness of the adjuster rod is less than 44 HRC (Rockwell C Hardness scale), prior to the accumulation of 6,666 total flight cycles, replace the adjuster rod of the guide arm assembly per Figure 2 of the applicable service bulletin.

(ii) If the hardness of the adjuster rod is greater than 44 HRC, then the adjuster rod is satisfactory, and no further action is required by this paragraph.

Alternative Methods of Compliance

(e) In accordance with 14 CFR 39.19, the Manager, Seattle Aircraft Certification Office (ACO), FAA, is authorized to approve alternative methods of compliance for this AD.

Incorporation by Reference

(f) The actions shall be done in accordance with Boeing Special Attention Service Bulletin 757-52-0077, dated February 15, 2001; and Boeing Special Attention Service Bulletin 757-52-0078, dated February 15, 2001; as applicable. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(g) This amendment becomes effective on December 21, 2004.

Issued in Renton, Washington, on November 3, 2004.
Kevin M. Mullin,
Acting Manager, Transport Airplane Directorate, Aircraft Certification Service.

[FR Doc. 04-25190 Filed 11-15-04; 8:45 am]

BILLING CODE 4910-13-P